DEPARTMENT OF LABOR

Employment and Training Administration

American Recovery and Reinvestment Act of 2009; Notice of Availability of Funds and Solicitation for Grant Applications for Category 1—Healthcare Virtual Career Platform (HVCP) and Category 2—Enhancing the Ability of Community- and Faith-Based Organizations To Deliver Virtual Career Exploration Services, Including Healthcare Careers

AGENCY: Employment and Training Administration, U.S. Department of Labor.

Announcement Type: Notice of Solicitation for Grant Applications.

Funding Opportunity Number: SGA/DFA PY 09-09

Catalog of Federal Domestic Assistance (CFDA) Number: 17.275.

SUMMARY: The Employment and Training Administration (ETA), U.S. Department of Labor (DOL, or the Department), announces the availability of approximately $13.2 million in grant funds authorized by the American Recovery and Reinvestment Act of 2009 (the Recovery Act) for projects that use virtual service-delivery models to promote career opportunities in the healthcare sector.

This Solicitation provides applicants with the option to choose from two categories to submit a single grant application. These categories are:

Category 1—Healthcare Virtual Career Platform (HVCP) and

Category 2—Enhancing the Ability of Community- and Faith-Based Organizations to Deliver Virtual Career Exploration Services, Including Healthcare Careers

Grants to support the above mentioned categories will be awarded through a competitive process.

Applicants must indicate in the abstract of their proposal the category under which they are applying. Applicants are encouraged to read the entire SGA since applicants under both Categories 1 and 2 are required to work collaboratively on some part of the project. The Category 1 grant recipient is required to create an HVCP and give Category 2 grant recipients training on how to use the service, and Category 2 grant recipients are required to train their staff, as well as staff from local One-Stop Career Centers, on the HVCP as part of year 2 grant activities.

Under Category 1, ETA intends to award one grant for up to $6.6 million to develop and operate an HVCP. Under Category 2, ETA intends to award two to four grants totaling approximately $6.6 million to national community- and faith-based organizations and non-profit One-Stop Career Center operators. The Category 2 grantees will increase access to virtual career exploration services by (a) building their capacity to deliver these services to their customers in local communities and (b) increasing the ability of their customers to make use of and benefit from online resources.

Eligible applicants for Category 1 include private nonprofit organizations with a nationally-focused mission. Eligible applicants under Category 2 of this grant Solicitation include private national nonprofit organizations that deliver services through networks of local affiliates, coalition members, or other established partners, including non-profit operators of One-Stop Career Centers. See section III.A for additional information related to eligible applicants.

This Solicitation provides background information and describes the application submission requirements, outlines the process that eligible entities must use to apply for funds covered by this Solicitation, and details how grantees will be selected. Applicants should read the entire SGA and note the specific sections that contain required information, such as in section II.A, section III.A, and section IV.B, where failure to comply will be considered non-responsive and those applicants will not be considered for funding.

The Department of Labor is committed to providing the public with an open and transparent grant selection process and providing useful information to assist prospective applicants with developing quality proposals. One way to achieve these goals is through public access to selected and non-selected grant applications. Applicants are advised that the information they submit in response to this Solicitation may be posted on a publicly accessible Web site or may otherwise be made available to the public.

DATES: Key Dates: The closing date for receipt of applications under this announcement is May 7, 2010. Applications must be received no later than 4 p.m. Eastern Time. A pre-recorded Webinar will be online (http://www.workforce3one.org) and accessible for viewing on April 14, 2010, and will be available for viewing anytime after that date. While a review of this Webinar is encouraged it is not mandatory that applicants view this recording.

ADDRESSES: Mailed applications must be addressed to the U.S. Department of Labor, Employment and Training Administration, Division of Federal Assistance, Attention: James Stockton, Grant Officer, Reference SGA/DFA PY 09-09, 200 Constitution Avenue, NW., Room N4716, Washington, DC 20210. For complete “Application and Submission Information,” please refer to section IV.

SUPPLEMENTARY INFORMATION:

I. Funding Opportunity Description

A. The American Reinvestment and Recovery Act (Recovery Act): Competitive Grants for Worker Training and Placement in High Growth and Emerging Industry Sectors

On February 17, 2009, President Barack Obama signed into law the Recovery Act, through which Congress intended to preserve and create jobs, promote the nation's economic recovery, and assist those most impacted by the recession. Among other funding directed toward the Department, the Recovery Act provides $750 million for a program of competitive grants for worker training and placement in high growth and emerging industries. Of the $750 million allotted for competitive grants, the Recovery Act designates $500 million for projects that prepare workers for careers in the energy efficiency and renewable energy industries described in Section 171(e)(1)(B) of the Workforce Investment Act (WIA). The Recovery Act further provided that in awarding grants for the remaining $250 million, projects that prepare workers for careers in the healthcare sector would receive priority. To date, ETA has awarded $720 million in competitive grants to 244 grantees and will use a portion of the funds to provide technical assistance to Recovery Act grantees.

With this SGA, DOL is devoting $13.2 million to prepare workers for careers in the healthcare sector by promoting the creation of an online platform that will use standardized data, application programming interfaces (APIs), and hosting infrastructure to support new applications, which will help individuals learn about and prepare for careers in the healthcare industry. The SGA will also build the capacity of community- and faith-based organizations to provide diverse customers with access to virtual resources and to assist their customers in using virtual and other resources to pursue career pathways, including those in the healthcare sector. These efforts will help participants prepare for and find employment, while leveraging other Recovery Act investments intended to create jobs and promote economic growth.

B. The Need for Virtual Career Services in the Healthcare Industry

In December 2009, ETA held a series of conference calls and a web-based meeting with healthcare subject matter experts from federal, state and local government, education institutions, and other public and private organizations to explore the need for virtual healthcare career resources. Among the stakeholders, there was general consensus that there are gaps in the information that individuals have about healthcare career opportunities and occupations; some of these gaps could be filled via virtual services. In addition, there are many healthcare career resources online that may not be having maximum impact because they are difficult to find, especially for underserved populations, and they are not interconnected. There is a need to better connect and inform the public or “publicize” the information, practices and resources that are currently available and being used, as well as a need to build certain additional components that are not presently available. Resources identified from these consultations, from the Jobs for America's Job Seekers Challenge, and selected Federal resources have been compiled and can be accessed on the Workforce3One site at: http://www.workforce3one.org/view/2001008333909172195/info. The objectives for the HVCP were developed based on the input received as a result of these conference calls.

C. Healthcare Sector and Occupations

As many industries experience lay-offs and job losses, the healthcare industry remains a critical driver in regional economies across the nation. In December 2009, the U.S. Bureau of Labor Statistics (BLS) reported that the healthcare sector continued to grow. Hospitals, long-term care facilities, and other ambulatory care settings added 21,500 new jobs in December 2009.

Healthcare providers employ large numbers of workers and contribute significantly to the strength of regional economies. BLS projects that healthcare employers will generate about 4 million new wage and salary jobs between 2008 and 2018, with the health services and social assistance sector projected to grow by 25.3 percent, adding more jobs (nearly 4.0 million) than any other industry sector. Employment growth in the healthcare sector will be driven by significant increases in demand for healthcare and assistance because of an aging population and longer life expectancies. In addition, projected retirements for current healthcare workers will necessitate a pipeline of skilled individuals ready to enter healthcare occupations. The growing diversity of our nation's population will also require additional skills and competencies, such as linguistic and cultural competencies, that impact the quality of care.

The need for qualified workers in this diverse sector impacts the quality and availability of medical care, and the economic stability and growth potential of local communities in rural, urban, and suburban areas. Moreover, the growing complexity of healthcare delivery, including changing technologies and introduction of advanced medical devices, will require both incumbent workers and new entrants to continuously upgrade their skills. Although job opportunities exist for workers without extensive specialized training, most healthcare occupations require training leading to a vocational license, certificate, or degree.

ETA is particularly interested in supporting the development of a platform that will emphasize opportunities within health technology and healthcare support occupations such as: medical and clinical laboratory technologists, medical and clinical laboratory technicians, dental hygienists, cardiovascular technologists and technicians, diagnostic medical sonographers, nuclear medicine technologists, radiologic technologists and technicians, emergency medical technicians and paramedics, dietetic technicians, pharmacy technicians, psychiatric technicians, respiratory therapy technicians, surgical technologists, licensed practical and licensed vocational nurses, community health workers and patient navigators, medical records and health information technicians, dispensing opticians, orthotists and prosthetists, occupational health and safety specialists, occupational health and safety technicians, home health aides, nursing aides/orderlies/attendants, psychiatric aides, occupational therapist assistants and aides, physical therapist assistants and aides, dental assistants, medical assistants, medical equipment preparers, medical transcriptionists, and pharmacy aides.

D. Grant Objectives

ETA is interested in projects that expand access to healthcare career information, especially to diverse populations, and reduce barriers to accessing those resources. The development of the HVCP by the grantee funded under Category 1 of this SGA will be complemented by activities of grantees funded under Category 2. Category 2 grantees will provide technical assistance to help connect their customers to virtual workforce development services. By expanding access to online career services, including healthcare careers, ETA seeks to achieve the following objectives:

• Assist current and future workers to consider healthcare career options by providing information on the required education and preparation, the nature of the day-to-day work, the work environment, experience, tasks performed on the job, and expectations for the continuing education required to advance along a career pathway or ladder;

• Assist individuals, through appropriate assessment, who have an interest in and aptitude for healthcare careers, with career decision-making, in order to help them select among the range of healthcare career options;

• Assist individuals in developing a plan of action to achieve their healthcare career goals through information on education and training requirements, licensing requirements, available training options, and links to local One-Stop Career Centers, community colleges, and other appropriate organizations;

• Provide selected online training to assist individuals in obtaining pre-healthcare competencies so that they will be ready to enroll in training toward their career goal—this could include courses to increase literacy and mathematics proficiency as well as prerequisite courses in science fundamentals;

• Support individuals in achieving their career goals through media and social networking, such as virtual tutoring, virtual mentoring, virtual study groups or forums, virtual job clubs, and similar virtual services;

• Enable third-party software developers to build, “beta”-test, and launch applications that utilize standardized information resources and associated APIs;

• Provide hosting infrastructure for healthcare career information, training resources, and other data, along with standardized APIs, to support both in-house and third-party applications;

• Develop, launch, iterate, and provide in-house applications that provide the information and services outlined above;

• Enable a new marketplace of applications that can use the HVCP to support existing and new business models around healthcare career information;

• Promote the HVCP services, and help disadvantaged populations use virtual services by providing train-the-trainer training and support to (1) Community-and Faith-Based Organizations and One-Stop Career Center Staff, and (2) Community- and Faith-Based Organizations and One-Stop Career Center customers to help them make use of the services and information in the HVCP, through a variety of means such as tutorials, training, and videos. As appropriate, this training may be made available to other partners such as libraries. This outreach and technical assistance can include both virtual and in-person training; and

• Provide linkages to national, state, regional, and local healthcare career resources, services, and applications.

• Provide linkages to training and employment including Registered Apprenticeship and joint labor-management programs.

E. Key Project Elements for Category 1—Healthcare Virtual Career Platform (HVCP)

The following are key activities and deliverables required for the HVCP grant Solicitation:

i. Develop Asset Map. Identify what virtual tools and services are available for persons interested in a healthcare career and which ones would be valuable to include in on the HVCP;

ii. Develop a Gap Analysis. Analyze the resources identified in the asset map and identify gaps in information and tools that need to be developed as in-house applications running on the HVCP to adequately promote healthcare career exploration and career planning;

iii. Build and Operate Platform. Design, build, and operate an open platform for healthcare career information resources and services, together with APIs and hosting infrastructure for healthcare career information and in-house and third-party applications;

iv. Develop an HVCP as an open source platform. Both the system and the uncompiled source code should be open source or located in the public domain. The structure of the site should look beyond the current operating environment and integrate the long-term Open Government objectives of universal access and cross-platform integration. See the Open Government Directive issued by the Office of Management and Budget (OMB) in Memorandum M-10-06 dated December 8, 2009 located at: http://www.whitehouse.gov/open/documents/open-government-directive.

Please note that all tools and components developed for the HVCP must be discrete and separate, capable of being decoupled from the platform and added to other systems.

v. Develop Assessment Tool. The HVCP must include an assessment tool as one of the applications developed for the platform. Through its review, ETA found generic assessments for occupation sectors but was unable to identify assessments that match users to specific healthcare occupations. Therefore, we are specifying that one of the tasks will be to provide a healthcare occupation-specific assessment. To address this need, applicants in Category 1 will provide an interest, aptitude, and readiness assessment tool for specific healthcare careers. Furthermore, the assessment and results should be detailed enough to be able to direct an individual to specific occupations within the overall healthcare career field at the level of detail as described within the Department of Labor's Occupational Information Network (O*NET) system or additional detail provided by the Health Resources and Services Administration within the Department of Health and Human Services, rather than just providing a general vocational interest indicating that the healthcare industry as a whole is a possible career option. The assessment tool should also assess current educational and work readiness and potential transferable skills so as to help diverse individuals develop a career pathway plan that includes needed education as well as jobs or occupations along a career ladder to higher, family-supporting wages.

vi. Incorporate Online Training Component. The HVCP must include an online training application that would consist of noncredit prerequisite courses for entry-level healthcare careers. Many training courses already exist; these as well as any gaps should be identified in the asset-mapping portion of the project. The training would assist individuals in preparing for postsecondary level education and training and in obtaining pre-healthcare career competencies so that they will be ready to enroll in training for their career goal. Examples of the training courses to be offered could include courses to increase literacy, mathematics and science fundamental prerequisites, such as introductions to basic biology, chemistry, and anatomy.

vii. Develop and deliver outreach materials and staff training. Outreach materials must be developed describing the HVCP and its components. Staff training on the use of the HCVP and the resources available on the platform must be developed to be delivered to One-Stop Career Centers and Community- and Faith-Based Organizations (including Category 2 grantees) regarding the use of the HVCP and the resources available on the site.

viii. The HVCP will be developed during year 1 and will be maintained and updated throughout year 2.

F. Key Project Elements for Category 2—Enhancing the Ability of Community- and Faith-Based Organizations To Deliver Virtual Career Exploration Services, Including Healthcare Careers

Grantees will use funds to build their capacity to both offer virtual services to diverse clients and customers, and to assist their customers in making good use of such resources, through any of the following:

i. Capacity-Building Activities (not to exceed 30 percent of proposed project budget). Grantees can augment their information technology capacity through any of the following:

• Providing additional computer workstations for customers in Year 1;

• Increasing broadband capacity or Internet access (e.g., more lines, faster connections) in Year 1;

• Obtaining software, including computer literacy assessments and training modules to help customers learn about and become comfortable using online services in Year 1; and

ii. Customer Service Activities

• Providing training for their own staff and customers, and staff from local One-Stop Career Centers, on effective use of online career and workforce development services to help jobseekers prepare for and find employment, in Year 1 and Year 2;

• Providing computer literacy and career development training for their customers; specifically assisting customers to use virtual resources and Internet based sites for planning career pathways, including identifying career goals, planning required education and training, and applying for jobs in their chosen career field, in Year 1 and Year 2; and

• Implementing training for staff and customers using the HVCP and its materials (developed by the Category 1 grantee), in Year 2

II. Award Information

A. Award Amount

Under this SGA, ETA intends to award approximately $13.2 million in grant funds authorized by the Recovery Act for two categories of projects that use virtual service-delivery models to promote career opportunities, including those in the healthcare sector. The eligible applicant criteria for each category of projects are defined in section III.A. Within the funding ranges specified below, applicants are encouraged to submit proposals for quality projects at a funding level that is appropriate to the project.

1. Category 1—Healthcare Virtual Career Platform (HVCP)

ETA anticipates that it will award one grant for up to $6.6 million to develop and operate an HVCP. ETA reserves the right to change this amount depending on the quantity and quality of applications submitted under this SGA. However, ETA will consider requests for greater than $6.6 million to be nonresponsive, and such applicants will not be considered for funding.

2. Category 2—Enhancing the Ability of Community- and Faith-Based Organizations to Deliver Virtual Career Exploration Services, Including Healthcare Careers

ETA intends to award two to four grants in amounts ranging from $1 to $3 million, for a total of up to $6.6 million to build the capacity of national community- and faith-based organizations to provide virtual services to their clients and customers in support of career exploration, including healthcare careers. ETA reserves the right to change this amount depending on the quantity and quality of applications submitted under this SGA. ETA does not expect to fund any project for less than $1 million, but this does not preclude funding grants at a lower amount based on the type and number of quality submissions. However, ETA will consider requests for greater than $3 million nonresponsive, and such applicants will not be considered for funding.

B. Period of Performance

The period of grant performance for all awards will be up to 24 months from the date of execution of the grant documents. This performance period includes all necessary grant activities, including implementation and start-up activities. Applicants must submit a timeline of activities planned for the entire 24-month period.

ETA expects to make grant awards under this SGA by June 30, 2010, and also expects that the grant start date will be July 1, 2010. Applicants should plan for start-up activities under the grant to begin immediately after award, and we strongly encourage grantees to develop their project work plans and timelines accordingly. In addition, the Department intends for the HVCP (Category 1) grantee to complete development of an initial operating version of the HVCP within the first year of the grant.

While grant awards will be funded for a period of performance of two years, ETA may make available up to three additional years of funding, depending upon the availability of funds and the demonstrated performance of grant activities. However, applications must include a timeline of activities that reflects full expenditure of grant funds and completion of grant activities during the 24-month period of performance, while ensuring full transparency and accountability for all expenditures.

III. Eligibility Information

A. Eligible Applicants and Strategic Partnerships

Under this Solicitation, applicants may apply under one of two categories:

Category 1—Healthcare Virtual Career Platform (HVCP); or

Category 2—Enhancing the Ability of Community- and Faith-Based Organizations to Deliver Virtual Career Exploration Services, Including Healthcare Careers.

Applicants may only submit a grant application under one category and only one application per applicant will be accepted. Applicants must indicate in the abstract of their proposal the category under which they are applying. Applications that do not adhere to the above instructions will be considered to be nonresponsive and not reviewed or funded. In particular, if an applicant submits more than one application, none of the applications will be considered. (Please see section IV.F for instructions for withdrawing an application before submitting a new application.) These two applicant categories will compete separately for funding under this SGA, and each Category will be paneled and reviewed separately.

This section provides separate eligibility and partnership information for each of the two categories.

1. Category 1—Healthcare Virtual Career Platform

i. Eligible applicants for Category 1

Eligible applicants for Category 1 grants are private nonprofit organizations with a nationally-focused mission to promote education, workforce development, career pathways, employment, or retention (such as national healthcare occupational associations, national health associations with experience in working with diverse populations, national educational associations with experience in healthcare workforce development, national workforce development associations, or nationwide healthcare systems that focus on both healthcare service delivery and education). An organization with a mission that focuses on a specific State, region, or local area (such as a State Workforce Agency, local workforce investment board, or community college) is not eligible to apply as the lead applicant, but may be included as part of the strategic partnership described in section III.A.ii.

ii. Strategic Partnerships for Category 1

To be eligible to apply for funding under Category 1, applicants must demonstrate that the proposed project will be implemented by a robust strategic partnership that maximizes available resources, either virtual resources or additional financial resources, to support the project and represents the level of combined organizational expertise, in the following areas, which is necessary to effectively execute the project:

• Workforce Development and Training. The applicant and/or its strategic partners must have significant knowledge and experience in designing and delivering career exploration services and training, particularly in online and virtual environments. To ensure that this knowledge and experience is represented in the project, the applicant may partner with educational institutions (such as community or technical college systems) and the public workforce investment system (such as State Workforce Agencies or local workforce investment boards and their One-Stop systems).

• Healthcare Occupations. The applicant and/or its strategic partners must have significant knowledge of the healthcare occupations described in section I.C of this SGA, including an understanding of the knowledge, skills, and abilities needed for these occupations, as well as associated training, education, and licensure or certification programs. To ensure that this knowledge is represented in the project, the applicant may partner with healthcare occupational associations, healthcare employers and industry-related organizations, and/or educational institutions with healthcare programs successful in placing individuals in employment in the industry.

• Development and Deployment of Virtual Service Delivery Platforms. The applicant and/or its strategic partners must have expertise and experience in programming open-source platforms, and developing and implementing online virtual service-delivery models, particularly online virtual training and education services. To ensure that the project partnership is well-equipped to design a site to serve the public, the applicant may partner with (or procure the services of) information technology providers or other organizations, including for-profit organizations, with significant relevant expertise and experience.

• Public Outreach Expertise. The applicant and/or its strategic partners must have significant knowledge and experience in conducting public outreach and awareness campaigns that could be employed in promoting a new site to its intended users and have experience in working with diverse populations. These outreach capabilities could include use of traditional media avenues, such as press releases or interviews; public service announcements; networking; use of social media; as well as search engine optimization strategies to direct traffic to the site.

2. Category 2—Enhancing the Ability of Community- and Faith-Based Organizations To Deliver Virtual Career Exploration Services, Including Healthcare Careers

i. Eligible Applicants for Category 2

Eligible applicants for Category 2 grants are private national or multi-state nonprofit community- or faith-based organizations that deliver services through networks of local affiliates, coalition members, or other established partners, including labor management organizations and non-profit organizations that operate One-Stop Career Centers in more than one state. It is ETA's intent that investments in Category 2 achieve geographic balance across the country and increase capacity in both rural and urban settings in at least six different sites. Therefore, applicants under Category 2 must demonstrate that they have the capacity to work in a variety of communities in more than one state.

ii. Strategic Partnerships for Category 2

To be eligible for funding under Category 2 of this SGA, applicants must demonstrate that the proposed project, in each community served, will be implemented by a robust strategic partnership that maximizes available resources to support the project, provides access to diverse job seekers, and provides access to employment opportunities within the healthcare sector. At a minimum, this strategic partnership must include at least one representative, for each community served through the project, from each of the following categories:

• The public workforce investment system, such as State or local Workforce Investment Boards and their One-Stop systems, to further strengthen the existing collaboration betweens One-Stops and community- and faith-based organizations to provide career services to individuals whose role may include, but is not limited to, identifying, assessing, and referring candidates for training, and connecting and placing participants with employers that have existing job openings; and

• Public and private employers or industry-related organizations who employ or represent the healthcare occupations described in section I. C of this SGA.

B. Cost Sharing

Cost sharing or matching funds are not required as a condition for application, but applicants may use leveraged resources.

C. Other Grant Specifications

1. Required Collaboration Between Category 1 and Category 2 Grantees

Following the selection of grant recipients under this Announcement, the grantee under Category 1 must enter into a separate Memorandum of Understanding (MOU) with each grant awarded under Category 2. The MOUs will detail the HVCP services and training that the Category 1 grantee will provide to Category 2 grantees, and will describe how Category 2 grantees will utilize the HVCP platform and associated tools developed by the Category 1 grantee.

2. Other Grant Specifications for Category 1

i. Sustainability: The grantee is required to explore options for sustaining the HVCP in the event that additional Federal funds are not available at the close of the grant period. Such options could include potential sponsors, foundations, or associations or organizations that would be interested in maintaining the benefits obtained through the HVCP in building the healthcare workforce pipeline. The applicant must provide a plan to develop a sustainability options paper as part of the grant deliverables.

3. Other Grant Specifications for Category 2

i. Allowable Activities for Category 2

• The purchase of automated data processing (ADP) equipment, considered essential for the implementation of the project, will be allowed with the prior approval of the Agency. However, no more than 30 percent of the grant funds can be used for such purchases. Also, in accordance with 29CFR 95.34, equipment may be retained for use in the grant project for which it was acquired, as long as needed after grant termination, unless directed otherwise by the agency.

• Staff training, including training programs and/or personnel assessments or tests leading to a credential attesting to competency in providing career development services to individual customers.

IV. Application and Submission Information

A. How To Obtain an Application Package

This SGA contains all of the information and links to forms needed to apply for grant funding.

B. Content and Form of Application Submission for Category 1—Healthcare Virtual Career Platform and Category 2—Enhancing the Ability of Community- and Faith-Based Organizations To Deliver Virtual Career Exploration Services, Including Healthcare Careers

Proposals submitted in response this SGA will consist of three separate and distinct parts: (I) A cost proposal; (II) a technical proposal; and (III) attachments to the technical proposal. Applications must include the following or will be considered non-responsive and will not be considered: (1) The Standard Form (SF)-424, “Application for Federal Assistance;” (2) the SF-424A Budget Information Form; (3) Data Universal Numbering System (D-U-N-S®) Number; (4) Budget Narrative; (5) A request grant funds within the appropriate funding range noted in section II.A; and (6) Abstract. Applications that fail to adhere to the instructions in this section will be considered non-responsive and will not be considered. The amount listed in Part I: Cost Proposal and the amount listed on the SF-424 “Application for Federal Assistance should be the same. Please note, the funding amount included on the SF-424 will be considered the official funding amount requested.

Part I. The Cost Proposal. The Cost Proposal must include the following items:

• SF-424, “Application for Federal Assistance” (available at http://www07.grants.gov/agencies/forms_repository_information.jsp and http://www.doleta.gov/grants/find_grants.cfm). The SF-424 must clearly identify the applicant and must be signed by an individual with authority to enter into a grant agreement. Upon confirmation of an award, the individual signing the SF-424 on behalf of the applicant shall be considered the authorized representative of the applicant. Applicants must supply their D-U-N-S® Number on the SF-424. If submitting a hard copy application, the SF-424 must be signed by the authorized representative. All applicants for Federal grant and funding opportunities are required to have a D-U-N-S® Number. See Office of Management and Budget (OMB) Notice of Final Policy Issuance, 68 FR 38402, June 27, 2003. The D-U-N-S® Number is a non-indicative, nine-digit number assigned to each business location in the Dun & Bradstreet (D&B) database having a unique, separate, and distinct operation, and is maintained solely by D&B. The D&B D-U-N-S® Number is used by industries and organizations around the world as a global standard for business identification and tracking. If you do not have a D-U-N-S® Number, you can get one for free through the D&B Web site: http://smallbusiness.dnb.com/webapp/wcs/stores/servlet/Glossary?fLink=glossary&footerflag=y&storeId=10001&indicator=7.

• The SF-424A Budget Information Form (available at http://www07.grants.gov/agencies/forms_repository_information.jsp and http://www.doleta.gov/grants/find_grants.cfm). In preparing the Budget Information Form, the applicant must provide a concise narrative explanation to support the budget request, explained in detail below.

• Budget Narrative: The budget narrative must provide a description of costs associated with each line item on the SF-424A. It should also include a description of leveraged resources provided to support grant activities. In addition, the applicant should address precisely how the administrative costs support the project goals. The entire Federal grant amount requested (not just one year) should be included on both the SF-424 and SF-424A. No leveraged resources should be shown on the SF-424 and SF-424A.

Applications that fail to provide an SF-424, SF-424A, a D-U-N-S® Number, and a budget narrative will be considered non-responsive and not reviewed.

• Applicants are also encouraged, but not required, to submit OMB Survey N. 1890-0014: Survey on Ensuring Equal Opportunity for Applicants, which can be found under the Grants.gov, Tips and Resources From Grantors, Department of Labor section at http://www07.grants.gov/applicants/tips_resources_from_grantors.jsp#13 (also referred to as Faith-Based EEO Survey PDF Form).

Part II. The Technical Proposal. The Technical Proposal must demonstrate the applicant's capability to implement the grant project in accordance with the provisions of this Solicitation. The guidelines for the content of the Technical Proposal are provided in section V of this SGA. The Technical Proposal for Category 1: Healthcare Virtual Career Platform is limited to 25 double-spaced single-sided 8.5 x 11 inch pages with 12-point text font and 1-inch margins. The Technical Proposal for Category 2: Category 2—Enhancing the Ability of Community- and Faith-Based Organizations to Deliver Virtual Career Exploration Services, Including Healthcare Careers is limited to 20 double-spaced single-sided 8.5 x 11 inch pages with 12-point text font and 1-inch margins. Any materials beyond the specified page limit will not be read. Applicants should number the Technical Proposal beginning with page number 1. Applications that do not include Part II, the Technical Proposal, will be considered non-responsive.

Part III. Attachments to the Technical Proposal. In addition to the Technical Proposal, applicants must submit letters of commitment from all required partners or one letter of commitment that is co-signed by all partners that describes the roles and responsibilities of each partner. Electronic signatures are permissible in the letter(s) of commitment.

Applicants should not send letters of commitment separately to ETA, because letters received separately will be tracked through a different system and will not be attached to the application for review. ETA does not permit general letters of support submitted by organizations or individuals that are not partners in the proposed project and that do not directly identify the specific commitment or roles of the project partners. Support letters of this nature will not be included in the evaluation review process.

The applicant also must provide an Abstract, not to exceed two double-spaced single-sided pages and must include the following sections: (1) Summary of the proposed project, including applicant name; (2) applicant category as referenced in section III.A; (3) project title; (4) key partners; (5) projected outcomes; and (6) funding level requested.

Attachments to the technical proposal do not count against the page limit for the Technical Proposal, but may not exceed 10 pages for Category 1 and Category 2 applicants. Any additional materials beyond the 10-page limit for attachments will not be read. Applications that do not include the abstract will be considered non-responsive and will not be considered.

C. Submission Process, Date, Times, and Addresses

Applications may be submitted electronically on Grants.gov or in hard copy by mail or hand delivery. Applicants submitting proposals in hard copy must submit an original signed application (including the SF-424) and one (1) “copy-ready” version free of bindings, staples or protruding tabs to ease in the reproduction of the proposal by DOL. Applicants submitting proposals in hard copy are also required to provide an identical electronic copy of the proposal on compact disc (CD). If discrepancies between the hard copy submission and CD copy are identified, the application on the CD will be considered the official applicant submission for evaluation purposes. Failure to provide identical applications in hardcopy and CD format may have an impact on the overall evaluation.

The closing date for receipt of applications under both Category 1 and Category 2 of this announcement is May 7, 2010. Applications must be received at the address below no later than 4 p.m. Eastern Time. Applications sent by e-mail, telegram, or facsimile (FAX) will not be accepted. If an application is submitted by both hard-copy and through http://www.grants.gov a letter must accompany the hard-copy application stating why two applications were submitted and the differences between the two submissions. If no letter accompanies the hard-copy, we will review the copy submitted through http://www.grants.gov. Applications that do not meet the conditions set forth in this notice will be considered non-responsive. No exceptions to the mailing and delivery requirements set forth in this notice will be granted. Further, documents submitted separately from the application, before or after the deadline, will not be accepted as part of the application.

Mailed applications must be addressed to the U.S. Department of Labor, Employment and Training Administration, Division of Federal Assistance, Attention: James Stockton, Grant Officer, Reference SGA/DFA, PY 09-09, 200 Constitution Avenue, NW., Room N4716, Washington, DC 20210. Applicants are advised that mail delivery in the Washington area may be delayed due to mail decontamination procedures. Hand-delivered proposals will be received at the above address. All overnight mail will be considered to be hand-delivered and must be received at the designated place by the specified closing date and time.

Applications that are submitted through Grants.gov must be successfully submitted at http://www.grants.gov no later than 4 p.m. Eastern Time on May 7, 2010, and then subsequently validated by Grants.gov. The submission and validation process is described in more detail below. The process can be complicated and time-consuming. Applicants are strongly advised to initiate the process as soon as possible and to plan for time to resolve technical problems if necessary.

The Department strongly recommends that before the applicant begins to write the proposal, applicants should immediately initiate and complete the “Get Registered” registration steps at http://www.grants.gov/applicants/get_registered.jsp. Applicants should read through the registration process carefully before registering. These steps may take as much as four weeks to complete, and this time should be factored into plans for electronic submission in order to avoid unexpected delays that could result in the rejection of an application. The site also contains registration checklists to help you walk through the process. The Department strongly recommends that applicants download the “Organization Registration Checklist” at http://www.grants.gov/assets/Organization_Steps_Complete_Registration.pdf and prepare the information requested before beginning the registration process. Reviewing and assembling required information before beginning the registration process will alleviate last minute searches for required information and save time.

To register with Grants.gov, applicants applying electronically must have a D-U-N-S® Number and must register with the Federal Central Contractor Registry (CCR). Step-by-step instructions for registering with CCR can be found at http://www.grants.gov/applicants/org_step2.jsp. All applicants must register with CCR in order to apply online. Failure to register with the CCR will result in your application being rejected by Grants.gov during the submission process.

The next step in the registration process is creating a username and password with Grants.gov to become an Authorized Organizational Representative (AOR). AORs will need to know the D-U-N-S® Number of the organization for which they will be submitting applications to complete this process. To read more detailed instructions for creating a profile on Grants.gov visit: http://www.grants.gov/applicants/org_step3.jsp.

After creating a profile on Grants.gov, the E-Biz point of Contact (E-Biz POC)—a representative from your organization who is the contact listed for CCR—will receive an e-mail to grant the AOR permission to submit applications on behalf of their organization. The E-Biz POC will then log in to Grants.gov and approve an applicant as the AOR, thereby giving him or her permission to submit applications. To learn more about AOR Authorization visit: http://www.grants.gov/applicants/org_step5.jsp, or to track AOR status visit: http://www.grants.gov/applicants/org_step6.jsp.

An application submitted through Grants.gov constitutes a submission as an electronically signed application. The registration and account creation with Grants.gov, with E-Biz POC approval, establishes an AOR. When you submit the application through Grants.gov, the name of your AOR on file will be inserted into the signature line of the application. Applicants must register the individual who is able to make legally binding commitments for the applicant organization as the AOR; this step is often missed and it is crucial for valid submissions.

When a registered applicant submits an application with Grants.gov, an electronic time stamp is generated within the system when the application is successfully received by Grants.gov. Within two business days of application submission, Grants.gov will send the applicant two e-mail messages to provide the status of application progress through the system. The first e-mail, almost immediate, will contain a tracking number and will confirm receipt of the application by Grants.gov. The second e-mail will indicate the application has either been successfully validated or has been rejected due to errors. Only applications that have been successfully submitted by the deadline and subsequently successfully validated will be considered. It is the sole responsibility of the applicant to ensure a timely submission. While it is not required that an application be successfully validated before the deadline for submission, it is prudent to reserve time before the deadline in case it is necessary to resubmit an application that has not been successfully validated. Therefore, sufficient time should be allotted for submission (two business days) and, if applicable, subsequent time to address errors and receive validation upon resubmission (an additional two business days for each ensuing submission). It is important to note that if sufficient time is not allotted and a rejection notice is received after the due date and time, the application will not be considered.

To ensure consideration, the components of the application must be saved as .doc, .xls or .pdf files. If submitted in any other format, the applicant bears the risk that compatibility or other issues will prevent our ability to consider the application. ETA will attempt to open the document but will not take any additional measures in the event of problems with opening. In such cases, the non-conforming application will not be considered for funding.

We strongly advise applicants to use the plethora of tools and documents, including FAQs, which are available on the “Applicant Resources” page at http://www.grants.gov/applicants/resources.jsp.

ETA encourages new prospective applicants to view the online tutorial, “Grant Applications 101: A Plain English Guide to ETA Competitive Grants,” available through Workforce3One at: http://www.workforce3one.org/page/grants_toolkit.

To receive updated information about critical issues, new tips for users and other time sensitive updates as information is available, applicants may subscribe to “Grants.gov Updates” at http://www.grants.gov/applicants/email_subscription_signup.jsp.

If applicants encounter a problem with Grants.gov and do not find an answer in any of the other resources, call 1-800-518-4726 to speak to a Customer Support Representative or e-mail “support@grants.gov”. The Contact Center is open 24 hours a day, seven days a week. It is closed on federal holidays.

Late Applications: For applications submitted on Grants.gov, only applications that have been successfully submitted no later than 4:00 p.m. Eastern Time on the closing date and then successfully validated will be considered. Applicants take a significant risk by waiting to the last day to submit by Grants.gov.

Any application received after the exact date and time specified for receipt at the office designated in this notice will not be considered, unless it is received before awards are made, it was properly addressed, and it was: (a) Sent by U.S. Postal Service mail, postmarked not later than the fifth calendar day before the date specified for receipt of applications (e.g., an application required to be received by the 20th of the month must be postmarked by the 15th of that month); or (b) sent by professional overnight delivery service to the addressee not later than one working day before the date specified for receipt of applications. “Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to these instructions will be a basis for a determination that the application was not filed timely and will not be considered. Evidence of timely submission by a professional overnight delivery service must be demonstrated by equally reliable evidence created by the delivery service provider indicating the time and place of receipt.

D. Intergovernmental Review

This funding opportunity is not subject to Executive Order 12372, “Intergovernmental Review of Federal Programs.”

E. Funding Restrictions

Determinations of allowable costs will be made in accordance with the applicable Federal cost principles. Disallowed costs are those charges to a grant that the grantor agency or its representative determines not to be allowed in accordance with the applicable Federal cost principles or other conditions contained in the grant.

Successful and unsuccessful applicants will not be entitled to reimbursement of pre-award costs.

1. Indirect Costs

As specified in OMB Circular Cost Principles, indirect costs are those that have been incurred for common or joint objectives and cannot be readily identified with a particular final cost objective. In order to use grant funds for indirect costs incurred, the applicant must obtain an Indirect Cost Rate Agreement with its cognizant Federal agency either before or shortly after grant award.

An indirect cost rate (ICR) is required when an organization operates under more than one grant or other activity whether Federally-assisted or not. Organizations must use the ICR supplied by the cognizant agency. If an organization requires a new ICR or has a pending ICR, the Grant Officer will award a temporary billing rate for 90 days until a provisional rate can be issued. This rate is based on the fact that an organization has not established an ICR agreement. Within this 90 day period, the organization must submit an acceptable indirect cost proposal to their cognizant Federal agency to obtain a provisional ICR.

2. Administrative Costs

Under this SGA, an entity that receives a grant to carry out a project or program may not use more than 10 percent of the amount of the grant to pay administrative costs associated with the program or project. Administrative costs could be direct or indirect costs, and are defined at 20 CFR 667.220. Administrative costs do not need to be identified separately from program costs on the SF-424A Budget Information Form. However, they must be discussed in the budget narrative and tracked through the grantee's accounting system. To claim any administrative costs that are also indirect costs, the applicant must obtain an Indirect Cost Rate Agreement from its cognizant Federal agency.

3. Salary and Bonus Limitations

Under Public Law 109-234, none of the funds appropriated in Public Law 109-149 or prior Acts under the heading “Employment and Training Administration” that are available for expenditure on or after June 15, 2006, may be used by a recipient or sub-recipient of such funds to pay the salary and bonuses of an individual, either as direct costs or indirect costs, at a rate in excess of Executive Level II. Public Laws 111-8 and 111-117 contain the same limitations with respect to funds appropriated under each of these Laws. These limitations also apply to grants funded under this SGA. The salary and bonus limitation does not apply to vendors providing goods and services as defined in OMB Circular A-133 (codified with 29 CFR Parts 96 and 99). See Training and Employment Guidance Letter number 5-06 for further clarification: http://wdr.doleta.gov/directives/corr_doc.cfm?DOCN=2262.

4. Use of Grant Funds for Participant Wages

Organizations that receive grants through this SGA may not use grant funds to pay for the wages of participants. Further, the provision of stipends to training enrollees for the purposes of wage replacement is not an allowable cost under this SGA.

5. Intellectual Property Rights

The Federal Government reserves a paid-up, nonexclusive and irrevocable license to reproduce, publish or otherwise use, and to authorize others to use for Federal purposes: (1) The copyright in all products developed under the grant, including a subgrant or contract under the grant or subgrant; and (2) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which are limited to the developer/seller costs of copying and shipping. If revenues are generated through selling products developed with grant funds, including intellectual property, these revenues are program income. Program income is added to the grant and must be expended for allowable grant activities.

The source code, including all code incorporated to create the components and system that will comprise the HVCP developed under this grant will be considered open-source, subject to copyright by the grantee under the express provisions of an open-source software license. To this end, in lieu of the U.S. Department of Labor's (DOL) standard reservation of a license in copyrighted works developed under a grant per 29 CFR 95.36, the intellectual property rights of DOL, its grantees and subgrantees (including contractors of the grantee/subgrantee) in the HVCP will be governed by an open-source software license, namely, the GPLv3 license (attached, Appendix A), unless otherwise agreed upon in writing by authorized representatives of both DOL and the grantee.

Grantees must include the following language on all products developed in whole or in part with grant funds: “This workforce solution was funded by a grant awarded by the U.S. Department of Labor's Employment and Training Administration. The solution was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership.” For assessments and tools developed by the grantee, the following must be added to the disclaimer statement: “This solution is copyrighted by the institution that created it. Internal use by an organization and/or personal use by an individual for non-commercial purposes is permissible. All other uses require the prior authorization of the copyright owner.” For the HVCP platform and other open-source products, the following must be added to the disclaimer statement “This solution is distributed as open-source software under a GPLv3 license, which is included on the start-up screen of the software or written in the code.”

F. Other Submission Requirements

Withdrawal of Applications: Applications may be withdrawn by written notice to the Grant Officer at any time before an award is made.

V. Application Review Information

Evaluation Criteria

This section identifies and describes the criteria that will be used for each category to evaluate grant proposals. The evaluation criteria are described below in two categories:

Category 1—Healthcare Virtual Career Platform; or

Category 2—Enhancing the Ability of Community- and Faith-Based Organizations to Deliver Virtual Career Exploration Services, Including Healthcare Careers.

A. Evaluation Criteria: Category 1—Healthcare Virtual Career Platform (HVCP)

These criteria and point values are:

Criterion | Points
1. Strategy and Project Work Plan | 40
2. Platform Design and Technical Specifications | 15
3. Organizational Capacity and Technical Expertise | 25
4. Deliverables and Outcomes | 20
Total | 100

1. Strategy and Project Work Plan (40 points)

The HVCP is intended to be a Web-based clearinghouse specifically designed to improve access to information and resources available for individuals, including individuals from underserved communities, interested in pursuing healthcare careers. This online tool will integrate both existing resources via links or Web services, along with certain newly developed components or tools, in a single, accessible user-friendly platform that presents users with a logical way to think about healthcare career exploration and decision-making, as well as planning their next steps in terms of education and other preparation, including planning their own career pathway and career ladder. The applicant must provide a complete and very clear explanation of its proposed strategy and its implementation plans to meet these objectives.

The applicant must describe the proposed web-based career exploration strategy in full; explain how the proposed components address healthcare workforce needs; and, demonstrate how the proposed project will effectively provide online content and services (1) to encourage diverse individuals to pursue healthcare careers and (2) to develop their career and education and training plans. In support of the proposal, applicants should describe any evidence-based research that they considered in designing the strategy. The applicant must present a comprehensive work plan for the project, following the format provided in this section. Points for this section will be based on the relevance, completeness, and quality of data and analysis which underlie the Strategy and Project Work Plan as follows:

i. Strategies for Developing HVCP (20 points)

Scoring under this section will be based on the extent to which the applicant fully and clearly describes its proposed strategies for performing the following tasks under the grant and indicates how they will be carried out through the activities in the work plan:

• Develop Asset Map. Identify what virtual tools and services are available for persons interested in a healthcare career and which ones would be valuable to include as part of the HVCP (year 1).

• Develop a Gap Analysis. Analyze the resources identified in the asset map (above) and identify gaps in information and tools that need to be developed as in-house applications running on the HVCP to adequately promote healthcare career exploration and career planning, especially for diverse communities (year 1).

• Build and Operate Platform. Design, build, and operate an open platform for healthcare career information resources and services, together with APIs and hosting infrastructure for healthcare career data and in-house and third-party applications;

• Develop a design for the HVCP to deliver all the identified components (year 1). Both the system and the uncompiled source code should be open source or located in the public domain.

• Develop Assessment Tool. The HVCP must include an assessment tool. The applicant should provide an interest, aptitude, and readiness assessment tool for specific healthcare careers, as one of the applications developed for the platform. The assessment and results should be detailed enough to be able to direct an individual to specific occupations within the overall healthcare career field, rather than just providing a general vocational interest indicating that the healthcare industry as a whole is a possible career option. The assessment tool should also assess current educational and work readiness and potential transferable skills to help an individual develop a career pathway plan that includes needed education as well as jobs or occupations along a career ladder to higher, family-supporting wages (year 1).

• Incorporate Online Training Component. The HVCP must include an online training component that would consist of noncredit prerequisite courses for entry-level healthcare careers. Such training courses already exist and would be identified in the asset-mapping portion of the project (year 1).

ii. Outreach, Training and Collaboration Strategy (5 points) Scoring under this section will be based on the extent to which the applicant fully and clearly describes its strategies for providing public outreach, awareness and training activities as described below:

• Public Outreach and Awareness Activities. The applicant must provide a comprehensive outreach and awareness strategy for the public workforce investment system and community- and faith-based organizations (including recipients of grant funds for Category 2 of this SGA) to inform and create awareness of the information and services offered by the HVCP. The applicant should take into account the needs and barriers facing diverse communities. The applicant should describe train-the-trainer activities, to be delivered either in-person or virtual. The applicant must clearly identify how the proposed strategy will enable the project to effectively recruit users to the site and empower them to use the services provided (year 2).

• Training. The applicant must develop and provide training on the tools and services available on the HVCP as well as a tutorial on the site itself, virtually and in-person for staff, including staff of One-Stop Career Centers, community- and faith-based organizations, and Category 2 grant recipients and for individuals (year 2).

• Collaboration. The applicant is expected to provide train-the-trainer training and collaborate with the recipients of Category 2 grant funds. The applicant must provide a proposed strategy to initiate contact and collaborate with Category 2 grant recipients in order to implement the outreach and training described above. The applicant must enter into a MOU agreement with the recipient of Category 2 grant awards within 60 days of the grant award (year 2).

iii. Project Work Plan (10 points)

The applicant must provide a comprehensive project work plan. Factors considered in evaluating the project work plan will include: (1) The presentation of a coherent plan that demonstrates the applicant's complete understanding of all the activities, responsibilities, and costs required to implement each phase of the project and achieve projected outcomes within the timeframe of the grant; and (2) the demonstrated feasibility and reasonableness of the timeline for accomplishing all necessary start-up activities, including the ability to begin start-up activities immediately following the grant start date of no later than July 1, 2010, and to launch a beta-version of the HVCP site no later than July 1, 2011. Applicants must present this work plan in a table that includes the following categories:

• Project Tasks. Applicants must provide a detailed timeline for the six major tasks: (1) Asset mapping; (2) Gap analysis; (3) HVCP clearinghouse design and development; (4) Assessment development; (5) Online readiness, refresher and prerequisite training; and (6) Outreach, Training and Collaboration Activities.

• Activities. Applicants must identify the major activities required to implement each phase of the project. For each activity, include the following information: (a) Start Date; (b) End Date; (c) the project partner(s) that will be primarily responsible for performing each activity; (d) Key tasks associated with each activity; and (e) Key project milestones, with a list of the target dates and associated outcomes projected.

iv. Sustainability Options (5 points)

The Project Work Plan must include information on the development of a proposed sustainability options document, as described in Section III.C.2, options may include potential partnerships and leveraged resources. The Project Work Plan must include adequate time throughout the life of the grant to conduct sustainability planning. Applicants must build in specific meetings or activities and deliverables in the Project Work Plan that will focus on sustainability planning and the development of a written sustainability options document, which will be a required deliverable submitted to ETA at the end of the grant.

2. Platform Design and Technical Specifications (15 points)

ETA seeks to make this nationwide HVCP available and accessible to end users with computer equipment ranging from basic to sophisticated and internet access speeds ranging from low to high. Applicants must take this into consideration when designing the platform.

i. Platform Design (10 points)

The applicant should submit either a process flow diagram or a site map to illustrate the structure of the proposed HVCP. The applicant may also provide information (description or flow chart) detailing a user's experience on the proposed HVCP. This and other information provided regarding the platform design can be included either in the technical proposal or in the attachments to the technical proposal.

ii. Technical Specifications (5 points)

The applicant must fully and clearly describe how the finished HVCP platform will meet or exceed the following technical specifications:

• The platform should be developed in a nonproprietary format. The proposed open data structure must enable multidimensional integration (horizontal, vertical, future and legacy) with complementary systems;

• The platform must be modular, scalable, extensible, highly-available and flexible to provide an individual user experience;

• The database should be Open Database Connectivity (ODBC) compliant;

• The proposed system should be compatible with standard web browsers (Internet Explorer 7 or higher, Firefox 2.0 or higher, Mozilla 1.7 or higher, Netscape 8.0 or higher, AOL 8 or higher, Google Chrome 1.0 or higher, Opera 8.0 or higher, Safari 2.0 or higher); and

• The completed system must be compliant with section 508 of the Americans with Disabilities Act of 1990 (see http://www.ada.gov/websites2.htm).

3. Organizational Capacity and Technical Expertise (25 points)

The applicant must fully and clearly describe its capacity and its partners' capacity (if applicable) to effectively staff and support the proposed project. The application must also fully demonstrate the applicant's fiscal, administrative, and technical capacity and expertise to implement the key components of this project, including designing and hosting Web sites and developing/validating career and/or skill assessment instruments and describe the track record of the applicant and its partners in implementing projects of similar focus, size, and scope.

Scoring under this criterion will be based on the extent to which applicants provide evidence of the following:

i. Fiscal, Administrative, and Technical Capacity and Experience (15 points)

The application must provide strong evidence that the applicant and its partners have the fiscal, administrative, and technical capacity and experience to effectively administer this grant. Discussion should include:

• A full description of the applicant's capacity, including its systems, processes, and administrative controls that will enable it to comply with Federal rules and regulations related to the grant's fiscal and administrative requirements.

• Strong evidence that the applicant and/or its strategic partners (as identified in section III.A) have: (a) Technical skill and expertise in designing and operating online platforms and applications; (b) significant knowledge of healthcare occupations, including an understanding of the knowledge, skills, and abilities needed for these occupations, as well as associated training, education, and licensure or certification programs; (c) significant knowledge and experience in designing and delivering career guidance, particularly in online and virtual environments that reflects sensitivity to the needs of a diverse workforce; (d) expertise and experience in developing assessments. Applicants must provide a letter or letters of commitment (See section IV.B for instructions on submitting a required letter of commitment). The letter/letters should describe the roles and responsibilities of each partner.

ii. Staff Capacity (10 points)

Strong evidence that the applicant and its partners have the staff capacity to implement the proposed project must be provided. Scoring under this criterion will be based on the extent to which applicants address the following factors:

• The proposed staffing pattern for the project, including program management, technical, administrative, and program staff, which demonstrates that the role(s) and time commitment of the proposed staff are sufficient to ensure proper direction, management, implementation, and timely completion of each component and task.

• Where a specific project manager is identified, the applicant must demonstrate that the qualifications and level of experience of the proposed project manager are sufficient to ensure proper management of the project. Where no project manager is identified, the applicant should discuss the minimum qualifications and level of experience that will be required for the position.

4. Deliverables and Outcomes (20 points)

The applicant must demonstrate a results-oriented approach to managing and operating its project by providing projections for all outcome categories relevant to measuring the success or impact of the project. The applicant must include projected outcomes, which will be used as goals for the grant. Scoring under this section will be based on the following:

i. Deliverables (10 points)

The applicant must provide a list of deliverables such as asset map, gap analysis, assessment tool and a sustainability options document and provide a brief description of each deliverable. For the assessment tool deliverable, the grantee will provide relevant testing and validation documentation. For the sustainability document deliverable, the grantee will describe options for sustaining the HVCP, as described in section III.C.2.

ii. Outcomes (10 points)

The applicant must provide a methodology for tracking outcomes as well as provide projections outcomes including, but not limited to the following outcome categories:

• Web Analytics that may include a number of site visits,

• Number of registered users per service (examples include career exploration, online training, job search, etc.)

• Number of trainers trained (train-the-trainer sessions)

B. Evaluation Criteria: Category 2—Enhancing the Ability of Community- and Faith-Based Organizations To Deliver Virtual Career Exploration Services, Including Healthcare Careers

This section identifies and describes the criteria that will be used to evaluate the grant proposals for Category 2. These criteria and point values are:

Criterion | Points
1. Statement of Need | 15
2. Strategy and Project Work Plan | 40
3. Project Management and Organizational Capacity | 25
4. Outcomes | 20
Total | 100

1. Statement of Need (15 points)

Applicants must fully demonstrate a clear and specific need for the Federal investment in the proposed activities. It is critical throughout this section that applicants are explicit and specific as possible in citing sources of data and analysis. Applicants should use all relevant data from a wide variety of traditional resources (e.g., BLS reports, and state surveys) and non-traditional information sources including consultation with industry associations, or tracking private sector and government infrastructure investments, building permits, job postings, and business hiring trends. Points for this section will be based on the relevance, completeness, and quality of data and analysis which should serve as the foundation for the Strategy and Project Work Plan as follows:

i. Demographics (5 points)

Applicants must fully describe the demographics and characteristics of the clients served by the community- or faith-based organization at each local site and their existing level of information and computer technology literacy and ability to make use of Internet based sites for planning career pathways, including identifying career goals, planning required education and training, and applying for jobs in their chosen career field.

ii. Existing Need (10 points)

Applicants must include a brief inventory of existing computer access for clients at each local site, including the ratio of client to computer work stations, the capacity of broadband access, any time limitations on customer use, existing software or programs currently used for information and computer technology literacy training, if any. Applicants must provide a full description of the specific types of information and training, if any, available for customers and clients regarding career exploration and decision-making, labor market information on in-demand industries and occupations, access to and use of online training and career assessments, including whether capacity is adequate or not to meet current needs of the additional numbers to be served through the grant.

2. Strategy and Project Work Plan (40 points)

The applicant must provide a complete and very clear explanation of its proposed strategy and its implementation plans. The applicant must present a comprehensive work plan for the project, following the format provided later in this section. Points for this criterion will be awarded for the following factors:

i. Proposed Capacity-Building Strategies (5 points)

Applicants must provide a detailed description of its proposed capacity-building strategies. The applicant must describe the proposed computer literacy and career development strategy in full (described in section I.F); explain how the proposed capacity building, staff training, and customer training addresses the applicant's statement of need; and, demonstrate how the proposed project will effectively deliver improved career planning services including to diverse populations, such as diverse cultural communities, individuals with limited English proficiency, low-income individuals, individuals with disabilities, veterans, and other underserved groups. Staff development may include training leading to credentials in career advising or coaching. In support of the proposal, applicants should describe any evidence-based research that they considered in designing the strategy (years 1 and 2).

ii. Roles and Commitment of Project Partners (10 points)

Scoring on this section will be based on the extent to which the applicant fully and clearly demonstrates the breadth and depth of their partners' commitment to the proposed project, by addressing the following factors:

• Applicants must fully and clearly demonstrate they have assembled a comprehensive and representative partnership, including providing a clear description of partner involvement in the development of the technical proposal. The applicant should fully describe the specific roles and level of participation of each of the project partners listed in III.A.2.ii including education/training, expertise, and/or other activities that partners will contribute to the project.

• The applicant must also demonstrate a strong commitment from its partners by providing a letter of commitment signed by all partners (See section IV.B for instructions on submitting a required letter of commitment).

iii. Proposed Recruitment and Pre-Training Activities, Training and Collaboration Strategies (15 points)

• Recruitment and Pre-Training Activities: The applicant must provide a comprehensive outreach and recruitment strategy that is inclusive of the diverse populations defined in the statement of need, that defines a clear process for finding and referring customers to the career planning and information and computer literacy programs, and describes pre-training activities such as case management services and assessment services, if applicable. The applicant must clearly identify how the proposed strategy will enable the project to effectively recruit those populations and identify any potential barriers to employment (years 1 and 2).

• Training: DOL encourages applicants to base their training strategies on program models that have shown promising outcomes for serving the populations that are the primary customers of the applicant organization. The applicant must provide a detailed explanation of the proposed career exploration training activities to assist clients in using online career and employment resources, including the HCVP. The application should also include a discussion of how the design of the training activities will accommodate the current skill and education level (including literacy and computer literacy), age, language barriers, and level of work experience of the populations. The applicant must also describe how the project will integrate basic skills, computer literacy, and career planning training where appropriate; take place at times and locations that are convenient and easily accessible for the populations; provide career planning for occupations and jobs, including those in healthcare; educate individuals about opportunities for career advancement and wage growth within the health industry and career pathways; and provide comprehensive coaching to help individuals take advantage of those opportunities (years 1 and 2).

• Collaboration: The applicant must collaborate with the recipient of Category 1 grant funds, who will provide training to Category 2 grant recipients regarding the new HVCP. The applicant must provide a proposed strategy to collaborate with the Category 1 grant recipient. The applicant must enter into a MOU agreement with the recipient of Category 1 grant award within 60 days of the grant award. The Category 1 grant recipient will initiate the process of developing an MOU agreement. Category 2 applicants must demonstrate a willingness to work with the Category 1 grant recipient.

iv. Project Work Plan (10 points)

The applicant must provide a comprehensive project work plan. Factors considered in evaluating the project work plan will include: (1) The presentation of a coherent plan that demonstrates the applicant's complete understanding of all the activities, responsibilities, and costs required to implement each phase of the project and achieve projected outcomes within the timeframe of the grant; (2) the demonstrated feasibility and reasonableness of the timeline for accomplishing all necessary start-up and education/training activities, including the ability to begin start-up activities immediately following the grant start date of no later than July 1, 2010, and to begin education and training activities as soon as possible; and, (3) the extent to which the budget aligns with the proposed work plan and is justified with respect to the adequacy and reasonableness of resources requested. Applicants must present this work plan in a table that includes the following categories:

• Project Tasks: Lay out the timeline for the four major tasks—Capacity Building/Equipment Purchase and Set-Up, Collaboration with Category 1 recipient, Recruiting participants, and Serving participants.

• Activities: Identify the major activities required to implement each phase of the project. For each activity, include the following information: (a) Start Date; (b) End Date; (c) Project partner(s) that will be primarily responsible for performing each activity; (d) Key tasks associated with each activity; (e) Key project milestones, with a list of the target dates and associated outcomes projected for capacity building efforts including technology upgrades, recruitment of participants, and participants served; and (f) As accurately as possible, list the sub-total budget dollar amount associated with each activity.

3. Project Management and Organizational Capacity (25 points)

The applicant must fully describe its capacity, including its partners' capacity, to effectively staff the proposed initiative. The application must also fully demonstrate the applicant's fiscal, administrative, and performance management capacity to implement the key components of this project, and the track record of the applicant and its partners in implementing projects of similar focus, size, and scope.

Scoring under this criterion will be based on the extent to which applicants provide evidence of the following:

i. Staff Capacity (10 points)

Strong evidence that the applicant and its partners, including local affiliates, have the staff capacity to implement the proposed initiative must be provided. Discussion should include:

• The proposed staffing pattern for the project, including program management and administrative staff and program staff, which demonstrates that the role(s) and time commitment of the proposed staff are sufficient to ensure proper direction, management, implementation, and timely completion of each project.

• Where a project manager is identified, the applicant must demonstrate that the qualifications and level of experience of the proposed project manager are sufficient to ensure proper management of the project. Where no project manager is identified, the applicant should discuss the minimum qualifications and level of experience that will be required for the position.

ii. Fiscal, Administrative, and Performance Management Capacity (10 points)

The application must provide strong evidence that the applicant and its partners have the fiscal, administrative, and performance management capacity to effectively administer this grant. Discussion should include:

• A full description of the applicant's capacity, including its systems, processes, and administrative controls that will enable it to comply with Federal rules and regulations related to the grant's fiscal and administrative requirements.

• A full description of the applicant's capacity, including its systems and processes, that will support the grant's performance management requirements through effective tracking of participant status and performance outcomes including both participant-level data and aggregate outcomes. The applicant must include an explanation of the applicant's processes and systems for tracking participants, as well as collecting and managing data in a way that allows for accurate and timely reporting of performance outcomes.

iii. Applicant's Experience (5 points)

The applicant must demonstrate its experience leading or participating significantly in a comprehensive partnership, and the experience of the applicant and its partners in effectively implementing and operating career exploration, career and education planning, and job search initiatives of similar focus, size and scope. The discussion must include:

• Specific examples of the applicant's experience in leading or participating significantly in a partnership that focused on career planning and preparation for diverse populations, including a description of the programmatic goals of the project, and a demonstration of the results achieved by that project.

• Specific examples of the applicant's track record administering Federal, State, or local grants. Applicants that have not received grants before should provide specific examples of their program management experiences, or other relevant experiences administering Federal, State, or local funds. Examples should include the programmatic goals and programmatic, fiscal, and administrative results from these projects.

• A description of the applicant's and its partners' experience in projects providing career planning services to diverse individuals including the programmatic goals and results of the projects.

4. Outcomes (20 points)

The applicant must demonstrate a results-oriented approach to managing and operating its project by providing projections for all outcome categories relevant to measuring the success or impact of the project, providing an estimated cost per participant, describing the outcomes that will be produced as a result of the grant activities, and fully demonstrating the appropriateness and feasibility of achieving these results within the grant period of performance. The applicant must include projected outcomes, which will be used as goals for the grant. The applicant must provide projections and track outcomes including but not limited to the following outcome categories for all participants served with grant funds:

• Total number of sites affected by capacity building efforts;

• Total participants served;

• Percentage increase in participants due to capacity building efforts;

• Amount of increased capacity provided through grant funds;

Applicants must collect and report participant-level data from the following categories:

• Demographic and socioeconomic characteristics;

• Services provided; and

• Outcomes achieved.

C. Review and Selection Process

Applications for grants under this Solicitation will be accepted after the publication of this announcement and until the closing date. A technical review panel will carefully evaluate applications against the selection criteria. These criteria are based on the policy goals, priorities, and emphases set forth in this SGA. Up to 100 points may be awarded to an application, depending on the quality of the responses to the required information described in section V.A. The ranked scores will serve as the primary basis for selection of applications for funding, in conjunction with other factors such as urban, rural, and geographic balance; the availability of funds; and which proposals are most advantageous to the government. The panel results are advisory in nature and not binding on the Grant Officer. The Grant Officer may consider any information that comes to his/her attention. The government may elect to award the grant(s) with or without discussions with the applicant. Should a grant be awarded without discussions, the award will be based on the applicant's signature on the SF-424, including electronic signature via E-Authentication on http://www.grants.gov, which constitutes a binding offer by the applicant.

VI. Award Administration Information

A. Award Notices

All award notifications will be posted on the ETA Homepage (http://www.doleta.gov). Applicants selected for award will be contacted directly before the grant's execution and non-selected applicants will be notified by mail. Selection of an organization as a grantee does not constitute approval of the grant application as submitted. Before the actual grant is awarded, ETA may enter into negotiations about such items as program components, staffing and funding levels, and administrative systems in place to support grant implementation. If the negotiations do not result in a mutually acceptable submission, the Grant Officer reserves the right to terminate the negotiation and decline to fund the application.

B. Administrative and National Policy Requirements

1. Administrative Program Requirements

All grantees will be subject to all applicable Federal laws, regulations, and the applicable OMB Circulars. The grant(s) awarded under this SGA will be subject to the following administrative standards and provisions:

i. Non-Profit Organizations—OMB Circulars A-122 (Cost Principles) and 29 CFR part 95 (Administrative Requirements).

ii. Educational Institutions—OMB Circulars A-21 (Cost Principles) and 29 CFR part 95 (Administrative Requirements).

iii. State and Local Governments—OMB Circulars A-87 (Cost Principles) and 29 CFR part 97 (Administrative Requirements).

iv. Profit Making Commercial Firms—Federal Acquisition Regulation (FAR)—48 CFR part 31 (Cost Principles), and 29 CFR part 95 (Administrative Requirements).

v. All entities must comply with 29 CFR parts 93 (New Restrictions on Lobbying) and 98 (Governmentwide Debarment and Suspension), and, where applicable, 29 CFR parts 96 and 99 (Audit Requirements).

vi. 29 CFR part 2, subpart D—Equal Treatment in Department of Labor Programs for Religious Organizations, Protection of Religious Liberty of Department of Labor Social Service Providers and Beneficiaries.

vii. 29 CFR part 31—Nondiscrimination in Federally Assisted Programs of the Department of Labor—Effectuation of Title VI of the Civil Rights Act of 1964.

viii. 29 CFR part 32—Nondiscrimination on the Basis of Handicap in Programs and Activities Receiving or Benefiting from Federal Financial Assistance.

ix. 29 CFR part 33—Enforcement of Nondiscrimination on the Basis of Handicap in Programs or Activities Conducted by the Department of Labor.

x. 29 CFR part 35— Nondiscrimination on the Basis of Age in Programs or Activities Receiving Federal Financial Assistance from the Department of Labor.

xi. 29 CFR part 36—Nondiscrimination on the Basis of Sex in Education Programs or Activities Receiving Federal Financial Assistance.

The following administrative standards and provisions may be applicable:

i. The Workforce Investment Act of 1998, Public Law No. 105-220, 112 Stat. 936 (codified as amended at 29 U.S.C. 2801 et seq.) and 20 CFR part 667 (General Fiscal and Administrative Rules).

ii. 29 CFR part 29 and 30—Apprenticeship and Equal Employment Opportunity in Apprenticeship and Training; and

iii. 29 CFR part 37—Implementation of the Nondiscrimination and Equal Opportunity Provisions of the Workforce Investment Act of 1998. The Department notes that the Religious Freedom Restoration Act (RFRA), 42 U.S.C. 2000bb, applies to all Federal law and its implementation. If your organization is a faith-based organization that makes hiring decisions on the basis of religious belief, it may be entitled to receive Federal financial assistance under Title I of WIA and maintain that hiring practice even though Section 188 of WIA contains a general ban on religious discrimination in employment. If you are awarded a grant, you will be provided with information on how to request such an exemption.

iv. Under WIA Section 181(b)(4), health and safety standards established under Federal and State law otherwise applicable to working conditions of employees are equally applicable to working conditions of participants engaged in training and other activities. Applicants that are awarded grants through this SGA are reminded that these health and safety standards apply to participants in these grants.

In accordance with section 18 of the Lobbying Disclosure Act of 1995 (Pub. L. 104-65) (2 U.S.C. 1611), non-profit entities incorporated under Internal Revenue Service Code Section 501(c)(4) that engage in lobbying activities are not eligible to receive Federal funds and grants.

Except as specifically provided in this SGA, DOL/ETA's acceptance of a proposal and an award of Federal funds to sponsor any programs(s) does not provide a waiver of any grant requirements and/or procedures. For example, the OMB Circulars require that an entity's procurement procedures must ensure that all procurement transactions are conducted, as much as practical, to provide open and free competition. If a proposal identifies a specific entity to provide services, the DOL's award does not provide the justification or basis to sole source the procurement, i.e., avoid competition, unless the activity is regarded as the primary work of an official partner to the application.

2. Special Program Requirements

i. Evaluation

DOL may require that the program or project participate in an evaluation of overall performance of ETA grants.

C. Reporting

Quarterly financial reports, quarterly progress reports, and MIS data will be submitted by the grantee electronically. The grantee is required to provide the reports and documents listed below:

1. Quarterly Financial Reports

A Quarterly Financial Status Report (ETA 9130) is required until such time as all funds have been expended or the grant period has expired. Quarterly reports are due 45 days after the end of each calendar year quarter. Grantees must use DOL's Online Electronic Reporting System and information and instructions will be provided to grantees.

2. Quarterly Performance Reports

The grantee must submit a quarterly progress report within 45 days after the end of each calendar year quarter. The report will include quarterly information regarding grant activities. The last quarterly progress report that grantees submit will serve as the grant's Final Performance Report. This report should provide both quarterly and cumulative information on the grant's activities. It must summarize project activities, employment outcomes and other deliverables, and related results of the project, and should thoroughly document the training or labor market information approaches used by the grantee. DOL will provide grantees with formal guidance about the data and other information that is required to be collected and reported on either a regular basis or special request basis. Grantees must agree to meet DOL reporting requirements.

3. Record Retention

Applicants must be prepared to follow Federal guidelines on record retention, which require grantees to maintain all records pertaining to grant activities for a period of not less than three years from the time of final grant close-out.

4. American Recovery and Reinvestment Act of 2009 (Pub. L. 111-5) Provisions

Prospective applicants are advised that, if they receive an award, they must comply with all requirements of the American Recovery and Reinvestment Act of 2009 [Pub. L. 111-5]. Applicants are advised to review the Act and implementing OMB guidance in the development of their proposals. Requirements include, but are not limited to:

a. Adherence to all grant clauses and conditions as they relate to Recovery Act activity.

b. Prohibition on expenditure of funds for activities at any casino or other gambling establishment, aquarium, zoo, golf course or swimming pool.

c. Compliance with the requirements to obtain a D-U-N-S® number and register with the Central Contractor Registry (CCR). ETA has issued additional guidance related to reports which can be found in the Training and Employment Guidance Letter NO. 29.08, dated June 10, 2009.

d. Submission of required reports in accordance with Section 1512 of the Recovery Act. These reports will be due quarterly within 10 days of the end of the reporting period and are in addition to ETA required reports addressed in section VI.C of this SGA. ETA will issue additional guidance related to these reports and their submission requirements shortly.

Implementing OMB guidance may be found at http://www.recovery.gov.

VII. Agency Contacts

For further information regarding this SGA, please contact Melissa Abdullah, Grants Management Specialist, Division of Federal Assistance, at (202) 693-3346 (This is not a toll-free number). Applicants should e-mail all technical questions to Abdullah, Melissa@dol.gov and must specifically reference SGA/DFA PY 09-09, and along with question(s), include a contact name, fax and phone number. This announcement is being made available on the ETA Web site at http://www.doleta.gov/grants and at http://www.grants.gov.

VIII. Additional Resources of Interest to Applicants

A. Web-Based Resources

DOL maintains a number of web-based resources that may be of assistance to applicants. For example, the CareerOneStop portal (http://www.careeronestop.org), which provides national and state career information on occupations; the Occupational Information Network (O*NET) Online (http://online.onetcenter.org) which provides occupational competency profiles; and America's Service Locator (http://www.servicelocator.org), which provides a directory of our nation's One-Stop Career Centers.

B. Industry Competency Models and Career Clusters

ETA supports an Industry Competency Model Initiative to promote an understanding of the skill sets and competencies that are essential to an educated and skilled workforce. A competency model is a collection of competencies that, taken together, define successful performance in a particular work setting. Competency models serve as a starting point for the design and implementation of workforce and talent development programs. To learn about the industry-validated models visit the Competency Model Clearinghouse (CMC) at http://www.careeronestop.org/CompetencyModel. The CMC site also provides tools to build or customize industry models, as well as tools to build career ladders and career lattices for specific regional economies.

Career Clusters and Industry Competency Models both identify foundational and technical competencies, but their efforts are not duplicative. The Career Clusters link to specific career pathways in sixteen career cluster areas and place greater emphasis on elements needed for curriculum performance objectives; measurement criteria; scope and sequence of courses in a program of study; and development of assessments. Information about the sixteen career cluster areas can be found by accessing: www.careerclusters.org.

C. Workforce3One Resources

1. ETA encourages applicants to view the information gathered through the conference calls with Federal agency partners, industry stakeholders, educators, and local practitioners. The information on resources identified can be found on Workforce3One.org at: http://www.workforce3one.org/view/2001008333909172195/info.

2. ETA encourages applicants to view the online tutorial, “Grant Applications 101: A Plain English Guide to ETA Competitive Grants,” available through Workforce3One at: http://www.workforce3one.org/page/grants_toolkit.

D. Working With Other Recovery Act Programs and Federal Partners

The Recovery Act made funds available to a number of other Federal programs that will impact the creation and expansion of healthcare occupations and other high growth and emerging industries, as well as providing training for those occupations. DOL is partnering with other Federal agencies to support the creation of jobs by developing a pipeline of skilled workers in the healthcare industry and other high growth and emerging industries. Where possible, ETA encourages applicants to connect their workforce development strategies to other Recovery Act-funded projects that provide training, create jobs or impact the skill requirements of existing jobs. ETA recommends that applicants review other parts of the Recovery Act. For example, there are specific Recovery Act activities related to healthcare through the Department of Education and Department of Health and Human Services (HHS), Health Resources and Services Administration (HRSA). For other high growth and emerging industries, it may be appropriate to review other Recovery Act programs from the Department of Energy, Department of Transportation, etc. For links to federal agency Recovery Act Web sites, please visit http://recovery.gov/?q=content/agencies.

Furthermore, other Federal departments, including Education, Health and Human Services, and Energy, also have or are developing Web-based resources that should be leveraged or linked to through this project. DOL will make the connections between the HVCP grantee and cognizant Federal officials in relevant Federal departments and agencies, during the first 60 days following award.

IX. Other Information

OMB Information Collection No. 1225-0086

OMB Information Collection No 1225-0086, Expires November 30, 2012.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, to the attention of Darrin A. King, Departmental Clearance Officer, 200 Constitution Avenue NW., Room N1301, Washington, DC 20210. Comments may also be e-mailed to DOL_PRA_PUBLIC@dol.gov. Please do not return the completed application to this address. Send it to the sponsoring agency as specified in this solicitation.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the application is not considered to be confidential.

Please be advised that the Grant Officer for this competition is James Stockton.

Signed at Washington, DC, this 2nd day of April 2010.
Donna Kelly,
Grant Officer, Employment and Training Administration.

[FR Doc. 2010-7869 Filed 4-6-10; 8:45 am]

BILLING CODE 4510-FN-P